DEPARTMENT OF TRANSPORTATION

Federal Aviation Administration

Seventeenth Meeting: RTCA NextGen Advisory Committee (NAC)

AGENCY: Federal Aviation Administration (FAA), U.S. Department of Transportation (DOT).

ACTION: Notice of Seventeenth RTCA NextGen Advisory Committee (NAC) Meeting.

SUMMARY: The FAA is issuing this notice to advise the public of the Seventeenth RTCA NextGen Advisory Committee (NAC) meeting.

DATES: The meeting will be held February 25, 2016 from 9:00 a.m.-3:00 p.m.

ADDRESSES: The meeting will be held at Delta Air Lines, Inc., New York City Room, 1010 Delta Blvd., Atlanta, GA 30354, Tel: (202) 330-0652.

FOR FURTHER INFORMATION CONTACT: The RTCA Secretariat, 1150 18th Street NW., Suite 910, Washington, DC 20036, or by telephone at (202) 833-9339, fax at (202) 833-9434, or Web site at http://www.rtca.org or Andy Cebula, NAC Secretary, RTCA, Inc., acebula@rtca.org, (202) 330-0652.

SUPPLEMENTARY INFORMATION: Pursuant to section 10(a)(2) of the Federal Advisory Committee Act (Pub. L. 92-463, 5 U.S.C., App.), notice is hereby given for a meeting of RTCA NextGen Advisory Committee (NAC). The agenda will include the following:

Thursday, February 25, 2016

1. Opening of Meeting/Introduction of NAC Members—Chairman Richard Anderson, Chief Executive Officer, Delta Air Lines, Inc.

2. Official Statement of Designated Federal Official—The Honorable Mike Whitaker, FAA Deputy Administrator

3. Review and Approval of October 8, 2015 Meeting Summary

4. Chairman's Report—Chairman Anderson

5. FAA Report—Mr. Whitaker

6. PBN Strategy Task Group—Dan Allen/Steve Fulton

7. NextGen Integration Working Group (NIWG): Exec Team Update and NextGen Priorities Beyond the Four

8. Reports & Discussion (Approval of Interim Recommendations): DataComm, Multiple Runway Operations, Performance Based Navigation (PBN), Surface & Data Sharing

9. PBN JFK Implementation

10. Joint Analysis Team—Dave Knorr/Ilhan Ince: Update on FAA-Industry Metrics Project and Timing and expectations on analysis

11. PBN Blueprint Community Outreach Task Group—Jim Crites/Brian Townsend

12. ADS-B: Equip 2020, Status of implementation, Air Carrier Fleet Equipage

13. NextGen Vision—Michelle Merkle/Bruce DeCleene

14. Summary of meeting and next steps; DFO and NAC Chairman Closing Comments

15. Other business

16. Adjourn

Attendance is open to the interested public but limited to space availability and registration is required. Please email bteel@rtca.org with name and company to pre-register. For those driving to Delta facilities, please email bteel@rtca.org no later than Friday, February 19, 2016. Upon arrival to the NAC meeting, please be prepared to show photo id. With the approval of the chairman, members of the public may present oral statements at the meeting. Plenary information will be provided upon request. Persons who wish to present statements or obtain information should contact the person listed in the FOR FURTHER INFORMATION CONTACT section. Members of the public may present a written statement to the committee at any time.

Issued in Washington, DC, on February 1, 2016.
Latasha Robinson,
Management & Program Analyst, NextGen, Enterprise Support Services Division, Federal Aviation Administration.

[FR Doc. 2016-02171 Filed 2-4-16; 8:45 am]

BILLING CODE 4910-13-P